DEPARTMENT OF HEALTH AND HUMAN SERVICES

Centers for Disease Control and Prevention

Decision To Evaluate and Petition To Designate a Class of Employees at Harshaw Chemical Company (Also Known as Uranium Refinery and/or Harshaw Filtrol Partners), Cleveland, OH, To Be Included in the Special Exposure Cohort

AGENCY: Centers for Disease Control and Prevention (CDC), Department of Health and Human Services (HHS).

ACTION: Notice.

SUMMARY: The Department of Health and Human Services (HHS) gives notice as required by 42 CFR 83.12(e) of a decision to evaluate a petition to designate a class of employees at Harshaw Chemical Company (also known as Uranium Refinery and/or Harshaw Filtrol Partners), to be included in the Special Exposure Cohort under the Energy Employees Occupational Illness Compensation Program Act of 2000. The initial proposed definition for the class being evaluated, subject to revision as warranted by the evaluation, is as follows:

Facility: Harshaw Chemical Company.

Location: Cleveland, Ohio.

Job Titles and/or Job Duties: All workers at Harshaw Chemical Company plant and the laboratories of the separate facility located at 1945 East 97th Street.

Period of Employment: January 1, 1942 through November 30, 1949.

FOR FURTHER INFORMATION CONTACT: Larry Elliott, Director, Office of Compensation Analysis and Support, National Institute for Occupational Safety and Health, 4676 Columbia Parkway, MS C-46, Cincinnati, OH 45226, Telephone 513-533-6800 (this is not a toll-free number). Information requests can also be submitted by e-mail to OCAS@CDC.GOV.

Dated: August 1, 2006.
John Howard,
Director, National Institute for Occupational Safety and Health, Centers for Disease Control and Prevention.

[FR Doc. 06-6683 Filed 8-3-06; 8:45 am]

BILLING CODE 4163-19-M